FEDERAL COMMUNICATIONS COMMISSION

47 CFR Parts 1 and 54

[CC Docket No. 02-6; FCC 13-81]

Application for Review of a Decision of the Wireline Competition Bureau by Dooly County School System; Schools and Libraries Universal Service Support Mechanism

AGENCY: Federal Communications Commission.

ACTION: Final rule.

SUMMARY: In this document, the Federal Communications Commission (Commission), denies in part and dismisses in part an Application for Review filed by the Dooly County School System and rescinds the remaining interim filing procedures established by the Commission in the 2001 Interim Filing Procedures Order. These actions are needed to provide clarity and certainty as to the filing deadline for applications for review arising from Universal Service Administrative Company-related proceedings.

DATES: Effective August 16, 2013.

FOR FURTHER INFORMATION CONTACT: Regina Brown, Attorney, Wireline Competition Bureau, (202) 418-0792 or TTY: (202) 418-0484.

SUPPLEMENTARY INFORMATION: This is a summary of that portion of the Commission's Order which rescinds the remaining interim filing procedure established by the Commission in the 2001 Interim Filing Procedures Order in CC Docket No. 02-6; FCC 13-81, released on June 10, 2013. The full text of this document is available for public inspection during regular business hours in the FCC Reference Center, Room CY-A257, 445 12th Street SW., Washington, DC 20554 or at the following Internet address: http://transition.fcc.gov/Daily_Releases/Daily_Business/2012/db0425/DA-12-646A1.pdf.

1. As codified in the Code of Federal Regulations, the Commission's rules state that “the application for review and any [supplement] thereto shall be filed within 30 days of public notice of such action.” Dooly County's Application for Review was filed on January 10, 2012, which was more than 30 days after public notice of the Bureau's Al-Ihsan Academy Order, which was released on December 5, 2011. Therefore, in its Application for Review, Dooly County also seeks a waiver of the application for review filing deadline, if needed. As an initial matter, however, Dooly County argues that a waiver of the deadline for filing an application for review is unnecessary because the current deadline for filing an application for review arising from USAC-related proceedings is 60 days from public notice of such action as established in the Commission's December 2001 Interim Filing Procedures Order, 67 FR 3441, January 24, 2002, and not 30 days as provided in the Code of Federal Regulations. Because we dismiss in part Dooly County's Application for Review on the basis that Dooly County did not afford the Bureau an opportunity to address the arguments raised in its Application for Review, and deny it in part with respect to its argument previously raised with and denied by the Bureau, and because Dooly County did not demonstrate good cause exists warranting a waiver of the Commission's rules, we need not address the question of whether Dooly County's filing was timely.

2. However, to provide clarity and certainty as to the filing deadline for applications for review arising from USAC-related proceedings, we take this opportunity to rescind the interim emergency filing procedures for applications for review arising from USAC-related proceedings established by the Commission the Interim Filing Procedures Order. In the Interim Filing Procedures Order, due to emergency events in Washington, DC arising from the September 11, 2001 terrorist attacks, the Commission amended its procedural rules “on an emergency, interim basis . . . to extend the period of filing a request for review, or applications for review arising from [USAC-related] proceedings, from the current 30 day period to 60 days, to provide applicants with the option of electronic filing (via either electronic mail or facsimile) for requests for review and petitions for reconsideration or applications for review that arise from such pleadings.” until further notice. Subsequently, in April 2003, the Commission released the Schools and Libraries Second Report and Order, 68 FR 36931, June 20, 2003, which permanently extended the deadline for filing initial appeals with USAC or the Commission to 60 days. The Schools and Libraries Second Report and Order did not, however, address the extended filing period for applications for review. Subsequently, the Commission rescinded all other emergency filing procedures adopted in late 2001 with the exception of the emergency filing procedures established in the Interim Filing Procedures Order. By this Order, we therefore rescind the interim filing procedures established by the Commission in the Interim Filing Procedures Order. As stated by the Commission in the Interim Filing Procedures Rescission Order, mail delivery in the Washington, DC area has greatly improved since 2001 and the United States Postal Service has greatly reduced the delay in processing mail. Also, the Commission has since 2001 expanded it electronic filing capabilities, and implemented its own processes to combat the threat of contamination of incoming mail. Given these circumstances, we conclude that the interim electronic filing procedures adopted by the Commission in 2001 are no longer necessary. Accordingly, we rescind those procedures, effective 30 days after publication of this Order in the Federal Register. Thereafter, filings of applications for review arising from USAC-related proceedings will no longer be accepted by facsimile or email and will be due within 30 days from public notice of such action, as provided in the Commission's rules. Once these clarifications take effect, the Bureau will issue a Public Notice announcing their effectiveness and explaining the correct procedures.

3. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

4. Accordingly, it is ordered that, pursuant to the authority of section 4(i) of the Communications Act of 1934, as amended, 47 U.S.C. 154(i), the interim electronic filing procedures adopted in the Interim Filing Procedures Order, FCC 01-376, are rescinded.

5. It is further ordered that the rescission of the interim electronic filing procedures adopted in the Interim Filing Procedures Order shall become effective August 16, 2013.

Federal Communications Commission.
Marlene H. Dortch,
Secretary.

[FR Doc. 2013-17055 Filed 7-16-13; 8:45 am]

BILLING CODE 6712-01-P